DEPARTMENT OF AGRICULTURE

Forest Service

Meeting Notice

AGENCY: Notice of Resource Advisory Committee, Sundance, Wyoming, USDA Forest Service.

ACTION: Notice of meeting.

SUMMARY: Pursuant to the authorities in the Federal Advisory Committee Act (Public Law 92-463) and under the Secure Rural Schools and Community Self-Determination Act of 2000 (Public Law 016-393) the Black Hills National Forests' Crook County Resource Advisory Committee will meet Monday, January 17, 2005 in Sundance, Wyoming for a business meeting. The meeting is open to the public.

FOR FURTHER INFORMATION CONTACT: Steve Kozel, Bearlodge District Ranger and Designated Federal Officer at (307) 283-1361.

SUPPLEMENTARY INFORMATION: The business meeting on January 17 will begin at 6:30 p.m., at the USFS Bearlodge Ranger District office, 121 South 21st Street, Sundance, Wyoming. Agenda topics will include an announcement of recently received Regional Forester's Award, a review of previously presented project proposals, and a presentation of any new project proposals. A public forum will begin at 8:30 p.m. (MT).

Dated: December 14, 2004.
Steve Kozel,
District Ranger, Bearlodge Ranger District.

[FR Doc. 04-27951 Filed 12-29-04; 8:45 am]

BILLING CODE 3410-11-M